DEPARTMENT OF COMMERCE

International Trade Administration

Notice of Scope Rulings

AGENCY: Import Administration, International Trade Administration, Department of Commerce.

DATES: Effective Date: July 18, 2013.

SUMMARY: The Department of Commerce (“Department”) hereby publishes a list of scope rulings and anticircumvention determinations made between January 1, 2013, and March 31, 2013. We intend to publish future lists after the close of the next calendar quarter.

FOR FURTHER INFORMATION CONTACT: Jennifer Moats, AD/CVD Operations, China/NME Group, Import Administration, International Trade Administration, U.S. Department of Commerce, 14th Street and Constitution Avenue NW., Washington, DC 20230; telephone: 202-482-2615.

SUPPLEMENTARY INFORMATION:

Background

The Department's regulations provide that the Secretary will publish in the Federal Register a list of scope rulings on a quarterly basis.¹ Our most recent notification of scope rulings was published on May 30, 2013.² This current notice covers all scope rulings and anticircumvention determinations made by Import Administration between January 1, 2013, and March 31, 2013, inclusive. As described below, subsequent lists will follow after the close of each calendar quarter.

¹ See 19 CFR 351.225(o).

² See Notice of Scope Rulings, 78 FR 32372 (May 30, 2013).

Scope Rulings Made Between January 1, 2013, and March 31, 2013

Brazil

A-351-841: Polyethylene Film, Sheet and Strip from Brazil

Requestor: Terphane, Inc. and Terphane, Ltda; Certain co-polymer surface films are not within the scope of the antidumping duty order, provided the performance-enhancing co-polymer layer is greater than 0.00001 inches thick, as determined by U.S. Customs and Border Production; January 7, 2013.

Italy

A-475-818/C-475-819: Certain Pasta From Italy

Requestor: Valdigrano di Flavio Pagani S.r.L. (“Valdigrano”); Valdigrano's pasta product which contains less than two percent egg white is within the scope of the antidumping and countervailing duty orders; preliminary ruling March 25, 2013.

People's Republic of China

A-570-901: Certain Lined Paper Products from the People's Republic of China

Requestor: Franklin Mill; Lined notebooks and Grid notebooks are not within the scope of the antidumping duty order; preliminary ruling January 16, 2013.

A-570-901: Certain Lined Paper Products from the People's Republic of China

Requestor: Esselte Corporation; Stone paper notebooks are within the scope of the antidumping duty order; February 27, 2013.

A-570-504: Petroleum Wax Candles from the People's Republic of China

Requestor: Signature Brands, LLC (“Signature Brands”); five of Signature Brand's candles, meeting all the requirements as specified in the final scope determination, are not within the scope of the antidumping duty order, and 17 of Signature Brand's candles, which did not meet all of the requirements, are within the scope of the antidumping duty order; March 7, 2013.

A-570-970 and C-570-971: Multilayered Wood Flooring From the People's Republic of China

Requestor: Alston Inc. (“Alston”); Alston's two-ply hybrid flooring is not within the scope of the antidumping duty and countervailing duty orders; March 12, 2013.

A-570-967 and C-570-968: Aluminum Extrusions From the People's Republic of China

Requester: Tesla Wall System (“Tesla”); Tesla's curtain walls with non-Chinese extrusions are not within the scope of the antidumping duty and countervailing duty orders; March 14, 2013.

A-570-967 and C-570-968: Aluminum Extrusions from the People's Republic of China

Requester: Asia Sourcing Corporation (“ASC”); ASC's aluminum boat and dock ladders (“ladders”), models ESG2 and ASC4, are not within the scope of the antidumping and countervailing duty orders, and ASC's ladders, models ASE, ASH, and DJX3-W, and strip door mounting brackets are within the scope of the antidumping duty and countervailing duty orders; March 20, 2013.

Anticircumvention Determinations Made Between January 1, 2013, and March 31, 2013

People's Republic of China

A-570-916 and C-570-917: Laminated Woven Sacks from the People's Republic of China

Requestor: Laminated Woven Sacks Committee and its individual members; laminated woven sacks produced with two ink colors printed in register and a screening process are not circumventing the antidumping duty and countervailing duty orders; February 14, 2013.

A-570-894: Certain Tissue Paper Products from the People's Republic of China

Requestor: Seaman Paper Company of Massachusetts, Inc.; exports to the United States of certain tissue paper products produced in India by A.R. Printing & Packaging (India) Pvt. Ltd. from People's Republic of China-origin jumbo rolls and/or cut sheets of tissue paper are circumventing the antidumping duty order; preliminary determination February 27, 2013.

Interested parties are invited to comment on the completeness of this list of completed scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: July 12, 2013.
Christian Marsh,
Deputy Assistant Secretary for Antidumping and Countervailing Duty Operations.

[FR Doc. 2013-17260 Filed 7-17-13; 8:45 am]

BILLING CODE 3510-DS-P